DEPARTMENT OF THE INTERIOR

National Park Service

[2253-665]

Notice of Intent To Repatriate Cultural Items: Benton County Historical Society and Museum, Philomath, OR

AGENCY: National Park Service, Interior.

ACTION: Notice.

SUMMARY: The Benton County Historical Society and Museum, in consultation with the appropriate Indian tribes, has determined that the cultural items meet the definition of objects of cultural patrimony and repatriation to the Indian tribe stated below may occur if no additional claimants come forward. Representatives of any Indian tribe that believes itself to be culturally affiliated with the cultural items may contact the Benton County Historical Society and Museum.

DATES: Representatives of any Indian tribe that believes it has a cultural affiliation with the cultural items should contact the Benton County Historical Society and Museum at the address below by May 21, 2012.

ADDRESSES: Mary K. Gallagher, Benton County Historical Society and Museum, 1101 Main Street, P.O. Box 35, Philomath, OR 97370, telephone (541) 929-6230.

SUPPLEMENTARY INFORMATION: Notice is here given in accordance with the Native American Graves Protection and Repatriation Act (NAGPRA), 25 U.S.C. 3005, of the intent to repatriate cultural items in the possession of the Benton County Historical Society and Museum, Philomath, OR, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The 29 cultural items include: 1 basket mortar; 4 baskets; 1 acorn strainer; 1 gathering basket; 2 storage baskets; 10 trinket baskets; 1 basket lid; 2 basket bottles; 4 basketry cups and saucers; 1 basketry candlestick; 1 basketry table mat; and 1 basketry napkin ring. All of the items are from the Horner Museum which was established in 1925 on the campus of what is now Oregon State University in Corvallis, OR. In 2005, items from the Horner Museum were acquired by the Benton County Historical Society and Museum (BCHS) located in nearby Philomath, OR. At the time of the transfer, Oregon State University (OSU) was in the process of completing NAGPRA requirements for items from the Horner Museum. In the transfer agreement with OSU, the BCHS took physical custody all unclaimed NAGPRA items and is now responsible for NAGPRA claims for cultural items from the collection.

All of the above cultural items are from the collection of Mrs. James Edmond Barrett. According to notes found in the Horner Museum donor file, Mrs. Barrett was a schoolteacher in southwestern Oregon who collected these cultural items over a period of 60 years. In 1927, she loaned her collection to the Horner Museum at what was then Oregon Agricultural College (OAC) to honor her son and daughter-in-law who attended OAC. This loan was renewed in 1939 and again in 1947. In 1972, the collection was donated to the Horner Museum by Lois Barrett, the daughter-in-law of Mrs. James Edmond Barrett. According to the 1934 catalog cards, 28 of the cultural items are identified, but one item has no provenance indicated on the original catalog card. Karuk affiliation of the objects was substantiated for 23 of the items by Martha Matthewson who acted as a consultant for OSU during the inventory process. For five of the cultural items, Ms. Matthewson indicated possible Karuk affiliation, but also suggested Yurok, Yokuts or Hupa affiliation. For one item, a trinket basket, consultants suggested affiliation to the Klamath, Grand Ronde, Warm Springs, Santa Rosa Rancheria and Karuk tribes.

On July 13, 2011, representatives of the Karuk Tribe visited the BCHS to view unclaimed cultural items. On August 15, 2011, the BCHS received a claim from the Karuk Tribe for the repatriation of 29 cultural items. The BCHS has reviewed the claim and determined that cultural affiliation to the Karuk Tribe is clearly established for 28 of the cultural items. After a review of additional evidence, the BCHS has determined that cultural affiliation to the Karuk Tribe exists for all 29 cultural items and that these cultural items meet the definition of objects of cultural patrimony.

Determinations Made by the Benton County Historical Society and Museum

Officials of the BCSM have determined that:

• Pursuant to 25 U.S.C. 3001(3)(D), the 29 cultural items described above have ongoing historical, traditional, or cultural importance central to the Native American group or culture itself, rather than property owned by an individual.

• Pursuant to 25 U.S.C. 3001(2), there is a relationship of shared group identity that can be reasonably traced between the objects of cultural patrimony and the Karuk Tribe (formerly Karuk Tribe of California).

Additional Requestors and Disposition

Representatives of any other Indian tribe that believes itself to be culturally affiliated with the objects of cultural patrimony should contact Mary K. Gallagher, Benton County Historical Society and Museum, 1101 Main Street, PO Box 35, Philomath, OR, 97370, telephone (541) 929-6230 before May 21, 2012. Repatriation of the objects of cultural patrimony to the Karuk Tribe may proceed after that date if no additional claimants come forward.

The Benton County Historical Society and Museum is responsible for notifying the Karuk Tribe that this notice has been published.

Dated: April 12, 2012.
David Tarler,
Acting Manager, National NAGPRA Program.

[FR Doc. 2012-9434 Filed 4-18-12; 8:45 am]

BILLING CODE 4312-50-P